AGENCY FOR INTERNATIONAL DEVELOPMENT

Advisory Committee on Voluntary Foreign Aid Meeting

AGENCY: United States Agency for International Development.

ACTION: Notice of meeting.

SUMMARY: Pursuant to the Federal Advisory Committee Act, notice is hereby given of a meeting of the Advisory Committee on Voluntary Foreign Aid (ACVFA).

Date: Wednesday, September 18, 2013.

Time: 2:30 p.m. to 4:00 p.m.

Location: Horizon Room, Ronald Reagan Building, 1300 Pennsylvania Ave NW., Washington, DC 20523.

Agenda

USAID Administrator Rajiv Shah will make opening remarks, followed by the release of working group recommendations on the creation of a Feed the Future Civil Society Action Plan, and an opportunity for public comment. A draft agenda will be forthcoming on the ACVFA Web site at http://www.usaid.gov/who-we-are/organization/advisory-committee.

Stakeholders

The meeting is free and open to the public. Persons wishing to attend should register online at http://www.usaid.gov/who-we-are/organization/advisory-committee/get-involved.

FOR FURTHER INFORMATION CONTACT: Sandy Stonesifer, 202-712-4372.

Dated: August 27, 2013.
Sandy Stonesifer,
Executive Director, Advisory Committee on Voluntary Foreign Aid (ACVFA), U.S. Agency for International Development.

[FR Doc. 2013-21451 Filed 9-3-13; 8:45 am]

BILLING CODE P